DEPARTMENT OF TRANSPORTATION

Federal Aviation Administration

Aviation Rulemaking Advisory Committee—Continuing a Task

AGENCY: Federal Aviation Administration (FAA), DOT.

ACTION: Notice of continuing a task assignment for the Aviation Rulemaking Advisory Committee (ARAC).

SUMMARY: The FAA assigned the Aviation Rulemaking Advisory Committee (ARAC) a continuing task to provide advice and recommendations to the FAA about implementing a process for prioritizing rulemaking projects. This task addresses, in part, one of the Department of Transportation's Future of Aviation Advisory Committee (FAAC) recommendations. This notice informs the public of a continuing ARAC activity and does not solicit membership for the existing Rulemaking Prioritization Working Group (RPWG).

FOR FURTHER INFORMATION CONTACT: Katherine Haley, Office of Rulemaking, Federal Aviation Administration, 800 Independence Avenue SW., Washington, DC 20591; telephone: 202-493-5708, facsimile: 202-267-5075; email: Katherine.L.Haley@faa.gov.

SUPPLEMENTARY INFORMATION:

Background

The FAA established ARAC to provide advice and recommendations to the FAA Administrator on the FAA's rulemaking activities. ARAC's objectives are to improve the development of the FAA's regulations by providing information, advice, and recommendations related to aviation issues.

In April 2011, the FAA tasked ARAC to provide advice and recommendations on developing a framework and methodologies to assist the FAA in assessing and sequencing potential rulemaking projects.¹ The FAA provided the RPWG with a set of issues to test the framework and methodologies. The RPWG conducted its task from June to December 2011 and submitted recommendations to ARAC on December 14, 2011. ARAC accepted the recommendations on December 16, 2011 and forwarded them to the FAA. The entire recommendation report can be found at: http://www.faa.gov/regulations_policies/rulemaking/committees/arac/.

¹ FAA, Aviation Rulemaking Advisory Committee (ARAC)—New Task (76 FR 21936).

The March 2012 ARAC Executive Committee meeting included a discussion of continuing the task to further test the RPWG's methodology. This notice advises the public that the FAA has assigned, and the ARAC Executive Committee has accepted, the task to test the methodology and to develop a report including recommendations explaining the results.

The Task

The FAA has tasked the RPWG to provide advice and recommendations to further test the recommended methodology.

The RPWG is expected to develop a report containing recommended changes to the methodology. This report should document both majority and minority positions on the findings and the rationale for each position. Any disagreements should be documented, including the rationale for each position and the reasons for the disagreement.

In developing its recommendations, the RPWG shall:

1. Review the RPWG Phase I Recommendation Report.

2. Test the methodology and the tools using a subset of completed rulemakings provided by the FAA.

3. Develop measurable scoring evaluation to evaluate projects against each other.

4. Evaluate the results of the test and refine the process and the tools accordingly.

Schedule: The recommendations must be forwarded to the ARAC Executive Committee for review and approval no later than September 2012. The RPWG may be asked to clarify the report between September and December 2012.

ARAC Acceptance of Task

The ARAC Executive Committee has accepted the continuing task using members of the existing RPWG. The RPWG serves as staff to ARAC and assists in the analysis of the assigned task. ARAC must review and approve the RPWG's recommendations. If ARAC accepts the working group's recommendations, it will send them to the FAA.

Working Group Activity

The RPWG must comply with the procedures adopted by ARAC. As part of the procedures, the RPWG must:

1. Recommend a work plan for completion of the task, including the rationale supporting such a plan, for consideration at the next ARAC Executive Committee meeting held following publication of this notice.

2. Provide a status report at each meeting of the ARAC Executive Committee.

3. Draft the recommendation report and required analyses and/or any other related materials or documents.

4. Present the final recommendations to the ARAC Executive Committee for review and approval.

Participation in the Working Group

The existing RPWG is comprised of technical experts having an interest in the assigned task. A working group member need not be a representative or a member of the full committee.

All existing RPWG members who choose to participate in this task must actively participate by attending all meetings, and providing written comments when requested to do so. Each member must devote the resources necessary to support the working group in meeting any assigned deadlines. Each member must keep their management chain, and those they may represent, advised of working group activities and decisions to ensure the proposed technical solutions do not conflict with their sponsoring organization's position when the subject is presented to ARAC for approval. Once the RPWG has begun deliberations, members will not be added or substituted without the approval of the FAA and the Working Group Chair.

The Secretary of Transportation determined the formation and use of ARAC is necessary and in the public interest in connection with the performance of duties imposed on the FAA by law.

ARAC meetings are open to the public. However, RPWG meetings are not open to the public, except to the extent individuals with an interest and expertise are selected to participate. The FAA will make no public announcement of the RPWG meetings.

Issued in Washington, DC, on May 3, 2012.
Brenda D. Courtney,
Acting Executive Director, Aviation Rulemaking Advisory Committee.

[FR Doc. 2012-11302 Filed 5-9-12; 8:45 am]

BILLING CODE 4910-13-P